DEPARTMENT OF AGRICULTURE

Forest Service

Tongass National Forest, Petersburg Ranger District, Alaska; Central Tongass Project Environmental Impact Statement

AGENCY: Forest Service, USDA.

ACTION: Notice of intent to prepare an Environmental Impact Statement.

SUMMARY: The U.S. Department of Agriculture, Forest Service will prepare an Environmental Impact Statement (EIS) to analyze a variety of resource management actions to implement over the course of 15 years. The purpose of the project is to meet multiple resource goals and objectives (i.e., needs) identified in the 2016 Tongass Land and Resource Management Plan (Forest Plan) using an integrated approach. Some of the project area needs include improving forest ecosystem health, supporting community resilience through economic development opportunities within Southeast Alaska communities, providing sustainable recreation opportunities to local visitors and the tourism industry, and offering a variety of wood products to regional mills and local communities. A variety of management activities (the Proposed Action) address these needs. Implementation of the management activities will often include one or more Supporting Actions, such as quarry development or sign installation. At the same time that it would approve the proposed project, the Forest Service may approve a project-specific Forest Plan amendment to ensure the project is consistent with the plan. This notices also identifies the substantive provisions of the 2012 Planning Rule that are likely to be directly related to a proposed forest plan amendment.

DATES: Comments concerning the scope of the analysis must be received by September 24, 2018. The publication date of this Notice of Intent (NOI) in the Federal Register is the exclusive means for calculating the comment period for this scoping opportunity. If the comment period ends on a Saturday, Sunday, or Federal holiday, comments will be accepted until the end of the next Federal working day (11:59 p.m.). The draft EIS is expected in April of 2019, and the final EIS is expected in May of 2020.

ADDRESSES: Send written comments to Petersburg Ranger District, c/o Carey Case, P.O. Box 1328, Petersburg, Alaska 99833, Attn: Central Tongass Project. Comments may also be hand-delivered to the Petersburg Ranger District, 12 North Nordic Drive, Petersburg, Alaska 99833; sent via email to comments-alaska-tongass-petersburg@fs.fed.us; facsimile to (907) 772-5995; or submitted electronically at https://cara.ecosystem-management.org/Public/CommentInput?project=53098.

FOR FURTHER INFORMATION CONTACT: David Zimmerman, District Ranger, or Carey Case, Project Leader, at the Petersburg Ranger District, P.O. Box 1328, Petersburg, Alaska 99833, or by telephone (907) 772-3871. Individuals who use telecommunication devices for the deaf (TDD) may call the Federal Information Relay Service (FIRS) at 1-800-877-8339 between 8 a.m. and 8 p.m., Eastern Time, Monday through Friday.

SUPPLEMENTARY INFORMATION: The Central Tongass project area encompasses National Forest System (NFS) lands and lands of other ownership, as authorized by other land owners, within the Petersburg and Wrangell Ranger Districts (3.7 million acres) to facilitate integrated and economical projects across all lands. Other than for invasive treatments, Wilderness will not be considered for resource management actions. The project area includes, but is not limited to, Mitkof, Kupreanof, Kuiu, Wrangell, Zarembo and Etolin Islands and the Alaska mainland.

Purpose and Need for Action

This action is needed to meet Forest Plan goals and objectives, and to support local and regional economies. The needs for this project have been identified by comparing the existing conditions within the project area with the desired conditions (desired long-term landscape attributes) defined in the Tongass Forest Plan (Chapter 2). Where desired conditions are not being met, a need exists. For this project, four categories of needs were identified: Watershed Restoration and Improvement, Vegetation Management, Access Management, and Sustainable Recreation Management.

Watershed Restoration and Improvement: A need exists to maintain or restore the natural range of habitat conditions in the project area to support viable wildlife, fish, and plant populations for subsistence, traditional and cultural uses, and to sustain diversity. In some watersheds, this need includes riparian ecosystem function improvements or enhancements, water quality maintenance and protection, fish habitat improvements, and native plant population protection.

Vegetation Management: A need exists for NFS lands to regularly provide forest products, such as saw timber, to support Southeast Alaska communities. By providing forest products on a regular basis, the Forest Service can better support local employment, increase revenue returns, and maintain flexibility and stability in the timber sale program. A need also exists for young-growth forest management to sustain productive timber stands for future use, and to improve habitat for wildlife and fish.

Access Management: A long-term need exists to design, construct, maintain, and manage a cost-effective transportation system that supports management activities and provides Forest users access to subsistence, recreation and traditional use opportunities.

Sustainable Recreation Management: Within the project area, a need exists to (1) maintain existing recreation sites and facilities to provide for the health and safety of all users, (2) construct or reconstruct facilities in locations where the needs for the facilities are supported by either known use, partnerships for long-term maintenance, or repeated safety concerns, or (3) remove facilities that are no longer needed or are not affordable (Forest Plan, p. 2-4).

The purpose of the Central Tongass Project is to meet the identified needs to improve forest ecosystem health, support community resiliency, and provide economic development opportunities on the Petersburg and Wrangell Ranger Districts. This project will be designed to meet Forest Plan goals and objectives, and land use designation goals, objectives, and desired conditions using an integrated land management approach. Forest-wide goals and objectives this project aims to address include, but are not limited to, Local and Regional Economies, Biodiversity, Timber, Wildlife, Transportation, Fish, Recreation and Tourism, and Young Growth Direction (Forest Plan, pp. 2-2 to 2-6, 5-2 to 5-3, 5-6, 5-8, 5-13 and 5-14).

Proposed Action

The Forest Service proposes a multi-year project to implement a variety of activities over the next 15 years within the Central Tongass project area. The project area includes NFS lands and lands of other ownership. Wilderness areas are not included in the land base available for proposed activities, with the exception of invasive plant treatments. The Proposed Action encompasses a range of management activities that address the broader needs identified within the Purpose and Need, and seeks to balance commercial and non-commercial opportunities and provide and maintain high-quality experiences for all Forest users over the long-term, while maintaining or improving land and resource conditions.

The Proposed Action was developed by comparing existing conditions within the project area to the Forest's desired landscape attributes, and considering best-available science and public input.

A guide will be developed to ensure the implementation of site-specific activities is consistent with the Central Tongass Project environmental analysis. Conditions such as stand age, use levels, and proximity to sensitive habitat will be evaluated before implementation may occur. If the effects of implementing a site-specific activity is expected to be outside the range of effects disclosed in the environmental analysis, the activity will not be implemented as part of the Central Tongass Project.

Individual activity cards will define each activity and guide its implementation over the life of the project. Information provided on the cards will include objectives and methods of implementation, resource-specific guidelines, activity design features, conditions that trigger implementation, and integration opportunities to maximize shared resources between program areas.

Watershed Restoration and Improvement

Watershed restoration and improvement activities on all lands within the project area include: Stream and floodplain restoration, fish habitat improvements, and invasive plant management.

To restore proper stream and floodplain functioning conditions, the Forest Service proposes instream wood placement on up to 700 acres (approximately 13 miles of stream) using heavy equipment and/or a helicopter, and instream wood placement on up to 1,720 acres (approximately 54 miles of stream) using hand tools.

To sustain the diversity and production of fish and other freshwater organisms, the Forest Service proposes fisheries improvements such as pool habitat creation, fish pass construction, natural instream barrier modifications, stocking and lake fertilization on up to 15 sites that collectively include no more than 25 miles of stream and 2 lakes.

The Forest Service proposes to use an integrated pest management strategy to treat invasive plant infestations on NFS and neighboring lands. Treatments proposed include manual methods such as hand-pulling or tarping; mechanical methods such as mowing or torching; and herbicide application including wicking/wiping, stem injection, foliar spot spray, or broadcast spray. Proposed herbicides include aminopyralid or aquatic-approved glyphosate and imazapyr. When deciding whether or not to treat an invasive plant, the Forest Service will consider the following factors: The target species' Alaska Natural Heritage Program invasiveness ranking, the location of the target species, its pathway of spread, and the management objective for the infestation. If the Forest Service decides to treat, the most cost-efficient and effective treatment method will be selected. Herbicide treatment areas may include terrestrial and emergent (plants rooted in water with foliage above the water surface) vegetation. Subsurface aquatic plant treatment is not proposed. To provide the flexibility to treat new infestations, the Proposed Action also includes a management strategy called early detection-rapid response.

Vegetation Management

Vegetation management activities include: Old-growth and young-growth commercial harvest and silvicultural intermediate treatments (young-growth pre-commercial thinning treatments, and wildlife habitat improvement treatments). Old-growth and young-growth activities will occur in 10 timber analysis areas (TAAs) within the project area. These analysis areas have developed road systems and encompass the majority of the suitable lands for timber harvest, as defined under the Forest Plan. Consequently, TAAs are a primary factor in determining where to plan timber harvest for this project. The TAAs are located on Mitkof, Kupreanof, Kuiu, Wrangell, Zarembo and Etolin islands, and at Thomas Bay on the Alaska mainland.

The Forest Service proposes to commercially harvest up to 9,500 acres (approximately 150 million board feet [MMBF]) of old-growth timber, and up to 4,000 acres (approximately 80 MMBF) of young-growth timber from stands on suitable lands within the project's 15-year timeframe. Timber harvest methods include even-aged and two-aged management prescriptions (conventional ground-based logging methods), and uneven-aged management prescriptions (helicopter yarding). Commercial harvest of old-growth and young-growth timber includes microsale and large, small, and salvage sale opportunities.

The Forest Service proposes to treat up to 3,000 acres of young-growth stands annually, or 45,000 acres total over the next 15 years that are approaching, have reached, or are in the stem exclusion stage of stand development. Young-growth treatments (activities) include pre-commercial thinning for timber stand improvement and wildlife and riparian habitat improvement (such as to create or maintain wildlife gaps, openings, corridors and trees; girdle and prune trees; and treat slash).

Access Management

Access management activities include (1) new NFS road construction, (2) NFS road reconstruction, (3) temporary road construction, (4) aquatic organism passage and fish habitat connectivity, and (5) construction, reconstruction, decommissioning and maintenance of marine access facilities, such as log transfer facilities, docks, mooring buoys, boat ramps and boat launches. Road storage and decommissioning are Supporting Actions.

The Forest Service proposes approximately 24 miles of NFS road construction, 63 miles of NFS road reconstruction, and 88 miles of temporary road construction for timber harvest and other resource management activities.

The Forest Service proposes to replace, remove, or improve up to 150 stream crossing structures where fish passage is inhibited (“red pipes”) using heavy equipment, hand tools, or explosives to rectify fish migration or movement barriers and provide effective flood resiliency.

The Forest Service proposes up to 33 new stream crossing structures, such as culverts and bridges, to support proposed vegetation and access management activities.

The Forest Service proposes to maintain or improve 14 existing marine access facilities (MAFs), and construct up to 4 MAF sites for log transfer and public access within the Central Tongass project area. Additionally, up to 69 marine access facility sites, such as docks, boat ramps and floats, may be maintained, constructed, or improved for public access. These sites are typically not associated with a road system, but used for access to shoreline or inland water facilities such as cabins, shelters, or trailheads.

Sustainable Recreation Management

Proposed recreation activities on NFS and neighboring lands include maintenance, improvements, new construction, and decommissioning of some existing recreation facilities. Recreation facilities include cabins, shelters, picnic areas, campgrounds, dispersed camping sites, outhouses, viewing areas and platforms. Trail construction, reconstruction, decommissioning, and maintenance may also occur, and includes pedestrian trails, motorized trails, snow trails, canoe and kayak portages, and conversion of existing trails from boardwalk to gravel.

Recreation management activities including trail building will be prioritized during implementation based on the following conditions (1) health and safety concerns for recreation users, (2) availability of internal or external funding sources, (3) current and projected use levels and degraded resource conditions from human use such as vegetation trampling, site hardening, soil erosion, and (4) feasibility due to topography.

The Forest Service proposes constructing up to 6 new cabins, 30 day use/picnic areas, 6 platforms for interpretative or wildlife viewing use, and 10 dispersed camp sites (including tent platforms). The Forest Service also proposes decommissioning up to 15 cabins, constructing up to 10 new shelters and/or converting cabins to shelters, and constructing or replacing up to 75 outhouses. The Forest Service proposes up to 300 miles of pedestrian trail construction (this includes new construction and/or converting existing boardwalk trail to gravel trail), up to 60 miles of new motorized trails, and up to 105 miles of winter trails.

Supporting Actions

Supporting Actions will be implemented, as needed, in support of the management activities described above. They include actions such as road maintenance and reconditioning, road decommissioning, road storage, sign installation, quarry development, soil restoration, cone collection, and timber stand establishment (planting and interplanting).

Forest Plan Amendment

A project-specific Forest Plan amendment may be proposed to allow the project to proceed in a manner that fulfills the project's stated purpose and need while being consistent with the Plan. The amendment would be to relax the Scenic Integrity Objectives (SIOs) (Forest Plan, p. 4-54) on portions of the TAAs on Mitkof, Zarembo, and Wrangell Islands, and Portage Bay located on Kupreanof Island, to improve timber sale economics for the commercial timber sales undertaken as part of this project only. If this Forest Plan amendment is included in the Central Tongass Project, the 2012 Planning Rule (36 CFR 219.13(b)(2)) requires the Responsible Official to identify which substantive requirements of the Rule are likely to be directly related to a proposed land management plan amendment. At this time, the Responsible Official believes the following requirements of the Rule are likely to apply: 36 CFR 219.8(b)(2); 36 CFR 219.10(a)(1); and 36 CFR 219.10(b)(1)(i).

Possible Alternatives

Other alternatives will be developed based on any significant issues identified in public comments and from internal Forest Service considerations. A no action alternative, which represents no change and serves as the baseline for the comparison among the action alternatives, will be analyzed as well.

Responsible Official

The Responsible Official for the decision on this project is M. Earl Stewart, Forest Supervisor, Tongass National Forest, Federal Building, 648 Mission Street, Ketchikan, Alaska 99901.

Nature of Decision To Be Made

Given the purpose and need of the project, the Responsible Official will review the no action, the proposed action, other alternatives, and the environmental consequences to make decisions that include: (1) Whether to select the proposed action or another alternative; (2) mitigation measures and monitoring requirements; (3) the range of treatments or activities to be authorized including commercial and pre-commercial timber treatments, restoration activities, invasive plant treatments, habitat improvement, road construction and reconstruction, and recreation development or decommissioning opportunities; (4) whether a project-specific Forest Plan amendment related to Scenery Integrity Objectives is necessary; and (5) whether there may be a significant restriction of subsistence uses.

Permits or Licenses Required

All necessary permits would be obtained prior to project implementation, and may include the following:

(1) State of Alaska, Department of Environmental Conservation (DEC), Alaska Pollutant Discharge Elimination System (APDES):

• General permit for Log Transfer Facilities in Alaska;

• Review Spill Prevention Control and Countermeasure Plan;

• Certification of Compliance with Alaska Water Quality Standards (401 Certification) Chapter 20;

• Storm Water Discharge Permit/National Pollutant Discharge Elimination System review (Section 402 of the Clean Water Act);

• Solid Waste Disposal Permit.

(2) U.S. Army Corp of Engineers:

• Approval of discharge of dredged or fill material into the waters of the United States under Section 404 of the Clean Water Act;

• Approval of the construction of structures or work in navigable waters of the United States under Section 10 of the Rivers and Harbors Act of 1899.

(3) State of Alaska, Division of Natural Resources (DNR):

• Authorization for occupancy and use of tidelands and submerged lands.

(4) State of Alaska, Department of Fish and Game (ADF&G)

• Fish Habitat Concurrence (Title 16).

Scoping Process

This Notice of Intent initiates the scoping process, which guides the development of the EIS. The Forest Service is seeking information, comments, and assistance from Tribal Governments; Federal, State, and local agencies; and individuals and organizations interested in or affected by the proposed activities. There will also be public meetings and subsistence hearings held in Kake, Petersburg, and Wrangell, Alaska. In addition to this Notice of Intent, a legal notice will be placed in the Ketchikan Daily News, the official newspaper of record for this project. Courtesy notifications will be placed in the Petersburg Pilot and the Wrangell Sentinel, local community newspapers. Project information, updates, and documents will be provided throughout the process on the project web page at https://www.fs.usda.gov/detail/tongass/landmanagement/projects/?cid=fseprd568085. Individuals may also provide comments and sign up to be on the electronic mailing list at that site.

The Central Tongass Project is an activity implementing the Forest Plan and is subject to the notification requirements and objection procedures of 36 CFR 218, subparts A and B, which states that only individuals or entities who submit timely and specific written comments about this proposed project during this or another public comment period established by the Responsible Official will be eligible to file an objection. If a Forest Plan amendment is included in the Central Tongass Project, it would only apply to the Central Tongass Project; therefore, the notification requirements of 36 CFR 219 are not required.

It is important that reviewers provide their comments at such times and in such a manner to be useful to the agency's preparation of the EIS. Therefore, comments should be provided prior to the close of the comment period and should clearly articulate the reviewer's concerns and contentions.

Comments received in response to this solicitation, including names and addresses of those who comment, will be part of the public record for this proposed action. Comments submitted anonymously will be accepted and considered; however, anonymous commenters will not gain standing to object as defined in 36 CFR 218.2.

Dated: July 23, 2018.
Chris French,
Associate Deputy Chief, National Forest System.

[FR Doc. 2018-17059 Filed 8-8-18; 8:45 am]

BILLING CODE 3411-15-P